DEPARTMENT OF ENERGY

Federal Energy Regulatory Commission

[Docket No. RP02-199-000]

Mississippi River Transmission Corporation; Notice of Tariff Filing

March 19, 2002.

Take notice that on March 13, 2002, Mississippi River Transmission Corporation (MRT) tendered for filing as part of its FERC Gas Tariff, Third Revised Volume No. 1, the following revised tariff sheets to be effective April 12, 2002:

First Revised Sheet No. 37

First Revised Sheet No. 39

Second Revised Sheet No. 40

First Revised Sheet No. 43

First Revised Sheet No. 45

First Revised Sheet No. 50

1st Rev. First Revised Sheet No. 183

MRT states that the revised tariff sheets will modify the Tariff's General Terms and Conditions and the Tariff provisions applicable to No Notice Transportation Service (Rate Schedule NNT) and Firm Storage Service (Rate Schedule FSS), to grant greater flexibility to customers in securing through their service agreements the exact services that best suit their needs, in a manner consistent with Commission policy. Specifically, MRT states that it is proposing the ability to negotiate (1) a contractual right of first refusal (“ROFR”) in certain circumstances where a regulatory ROFR otherwise would not be available to the customer pursuant to Commission regulations, (2) a reduction of a customer's contract entitlements where there has been a bypass of that customer by a third party, and (3) a process for cooperative efforts between MRT and a customer to implement any regulatory or other governmental order whereby a customer is to unbundle the services that it provides to its own customers. MRT states that the revised tariff sheets also provide additional flexibility for a storage customer with regard to the requirements governing injections into and withdrawals from MRT's storage facilities.

MRT states that it has served copies of the filing upon all customers and relevant state regulatory commissions.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-7083 Filed 3-22-02; 8:45 am]

BILLING CODE 6717-01-P